DEPARTMENT OF TRANSPORTATION

National Highway Traffic Safety Administration

[Docket No. NHTSA-2022-0028]

Agency Information Collection Activities; Submission to the Office of Management and Budget for Review and Approval; Evaluation of the Model Minimum Uniform Crash Criteria Program

AGENCY: National Highway Traffic Safety Administration (NHTSA), Department of Transportation (DOT).

ACTION: Notice and request for comments on a new information collection.

SUMMARY: In compliance with the Paperwork Reduction Act of 1995 (PRA), this notice announces that the Information Collection Request (ICR) abstracted below will be submitted to the Office of Management and Budget (OMB) for review and approval. The ICR describes a new information collection to survey a national sample of law enforcement and its expected burden. A Federal Register Notice with a 60-day comment period soliciting comments on the following information collection was published on March 29, 2022. NHTSA received two comments. As explained in this document, neither of the comments necessitates revisions to the information collection or burden estimates.

DATES: Comments must be submitted on or before September 28, 2022.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact John Siegler, National Center for Statistic and Analysis (NSA-221), (202) 366-1268, National Highway Traffic Safety Administration, W55-233, U.S. Department of Transportation, 1200 New Jersey Avenue SE, Washington, DC 20590, Please identify the relevant collection of information by referring to its OMB Control Number.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

A Federal Register notice with a 60-day comment period soliciting public comments on the following information collection was published on March 29, 2022 (87 FR 18065).

Title: Evaluation of the Model Minimum Uniform Crash Criteria Program.

OMB Control Number: New.

Form Number:

Type of Request: New Information collection.

Type of Review Requested: Regular.

Length of Approval Requested: Three years.

Summary of the Collection of Information: NHTSA is authorized by 49 U.S.C. 30182 and 23 U.S.C. 403 to collect data on motor vehicle traffic crashes to aid in the identification of issues and the development, implementation, and evaluation of motor vehicle and highway safety countermeasures.

The MMUCC guideline identifies a minimum set of motor vehicle crash data variables and their attributes that States should consider collecting and including in their State crash data systems. MMUCC is a voluntary, minimum set of standardized data variables for describing motor vehicle traffic crashes. MMUCC promotes data uniformity within the highway safety community by creating a foundation for State crash data systems to provide the information necessary to improve highway safety. The crash data is used to identify issues, determine highway safety messages and strategic communication campaigns, optimize the location of selective law enforcement, inform decision-makers of needed highway safety legislation, and evaluate the impact of highway safety countermeasures. NHTSA developed MMUCC with the Governors Highway Safety Association in 1998 and have regularly updated the guidelines together, with the most recent fifth edition published in 2017.

NHTSA is seeking approval to conduct a voluntary national survey of active law enforcement officers. The purpose of the survey would be to solicit officers' judgement about collecting the crash data variables described in the current fifth edition of the Model Minimum Uniform Crash Criteria (MMUCC) Guideline (DOT HS 812 433, July 2017) as well as to test officers' abilities to accurately collect both existing MMUCC variables and proposed new or modified variables.

First, NHTSA will hire a contractor to contact police chiefs within the 397 sampling units used by NHTSA's Crash Reporting Sampling System (CRSS) to request the nomination of four law enforcement officers in their department who collect crash data to participate in the study. Specifically, NHTSA is requesting the police chiefs to provide personally identifiable information (PII) about the nominated law enforcement officers, including names and contact information (email, phone, and address) so that NHTSA can contact these officers to administer a survey on MMUCC data elements and arrange payment of an honorarium.

Second, NHTSA will send the officers who were nominated to participate in this study a unique link to one of two online surveys, which will examine the feasibility of collecting the MMUCC crash data. The surveys will collect limited information about each respondent including the State where they work as a law enforcement officer, the extent of their training for collecting crash data, and the number of years the respondents have completed crash reports. The surveys will collect information about respondents' beliefs and abilities to accurately collect crash data according to the MMUCC guidelines. The surveys will ask respondents to rate the difficulty of accurately collecting specific MMUCC data elements, assess respondents ability to collect information using MMUCC data elements for fictitious crash scenarios, and ask for suggestions on how MMUCC data elements can be improved.

Description of the Need for the Information and Proposed Use of the Information: States' adoption of MMUCC variables has been slow and inconsistent. Currently the variables collected on State's police crash reports alignment to MMUCC variables is less than 50 percent, NHTSA intends to conduct this information collection to learn why the alignment rate is so low. Before embarking on the sixth edition of MMUCC, NHTSA seeks to assess the feasibility of collecting the data variables in MMUCC and to identify problematic data variables and other factors that impede States from adopting the MMUCC variables.

To assess the ability of law enforcement officers to accurately collect MMUCC crash data variables, NHTSA will conduct an electronic survey of a national sample of law enforcement officers who complete crash reports. The survey will ask respondents to review fictitious crash scenarios and collect the MMUCC data variables. In addition, law enforcement officers will be asked about their confidence to accurately collect MMUCC data variables and to provide suggestions for improving each data variable as needed. Examples of the types of crash data variables in MMUCC that law enforcement will be asked about include Direction of Travel, Sequence of Events, Type of Intersection, and Restraint System Use. The information collected will allow NHTSA to identify data variables in MMUCC that officers might interpret differently. The results will inform deliberations about the content of the next edition of MMUCC. A summary of this research will be published as an appendix to the next edition of MMUCC.

60-Day Notice: NHTSA published a 60-day notice in the Federal Register on March 29, 2022 (87 FR 18065), requesting comments on NHTSA's intention to request approval from the Office of Management and Budget (OMB) for a new information collection to survey a national sample of law enforcement officers on their knowledge and understanding of MMUCC. NHTSA received two comments on the 60-day notice. One organization, Trucking with the Schmitt's, asked about the expense of the data collection and recommended data to collect for crashes involving commercial motor vehicles. The National Association of Mutual Insurance Companies (NAMIC) wrote a letter in support of NHTSA's proposed collection of information, stating that the information collection is necessary and appropriate and that it believes that the information collected will have significant practical utility. Neither of the comments necessitate a revision of the scope of the information collection or the estimates of the annual cost or burden hours. NHTSA notes that this information collection only seeks information to better understand why alignment to current MMUCC variables is low and how to improve alignment. Therefore, considering additional data variables regarding CMV is outside the scope of this ICR. NHTSA also notes that the estimated cost to the Federal government associated with this information collection is $441,852.74.

Affected Public: Law enforcement.

Estimated Number of Respondents: NHTSA will send a short letter to 397 chief police officers to request they identify four police officers within their department to participate in the MMUCC survey. The total sample is 1,985 (397 police chiefs + 1,588 police officers).

Frequency: NHTSA plans to conduct this data collection once to prepare for the sixth edition of MMUCC.

Number of Responses: 1,985.

Estimated Total Annual Burden Hours: To calculate the hour burden and labor Costs associated with submitting the Evaluation of the Model Minimum Uniform Crash Criteria, NHTSA looked at wage estimates for Front Line Supervisors of Police and Detectives and Police and Sheriff's Patrol Officers who complete crash forms. NHTSA estimates the total opportunity costs associated with these burden hours by looking at the average wage for (1) Front line Supervisors of Police and Detectives and (2) Police and Sheriff's Patrol Officers. The Bureau of Labor Statistics (BLS) estimates that the average hourly wage for Front line Supervisors of Police and Detectives (BLS Occupation Code 33-1012) ¹ is $46.72 and Police and Sheriff's Patrol Officers (BLS Occupation code 33-3051) is $33.66.² The Bureau of Labor Statistics estimates that wages represent 62.2 percent of total compensation for State and local government workers, on average.³ Therefore, NHTSA estimates the hourly labor costs to be $75.11($46.72/.622) for Supervisors of Police and Sheriff's Patrol Officers and $54.12 ($33.66/622) for Police and Sheriff's Patrol Officers. NHTSA estimates that it will take about 10 minutes (0.17 of an hour) for the police chiefs to nominate four law enforcement officers who investigate motor vehicle crashes, resulting in 67.49 (0.17 × 397) hours for 397 police chiefs. From pilot testing the survey instruments with six former law enforcement officers who work at NHTSA, the agency estimates that it will take the law enforcement officers one hour to complete the survey. Therefore, 1,588 hours for 1,588 law enforcement officers. NHTSA estimates the total hourly compensation cost for police chiefs to be $5,069.17 ($75.11 × 67.49 hours). NHTSA estimates the total hourly compensation cost for law enforcement officers to be $85,942.56 ($54.12 × 1,588 hours). Table 1 provides a summary of the estimated burden hours and labor costs associated with those respondents.

¹ See May 2020 National Occupational Employment and Wage Estimates. National Estimates for First-Line Supervisors of Police and Detectives. Available at https://www.bls.gov/oes/2020/may/oes331012.htm (accessed July 1, 2021).

² See May 2020 National Occupational Employment and Wage Estimates. National Estimates for Police and Sheriff's Patrol Officers. Available at https://www.bls.gov/oes/2020/may/oes333051.htm (accessed July 1, 2021).

³ Employer Costs for Employee Compensation—March 2020, https://www.bls.gov/news.release/archives/ecec_06182020.pdf. Accessed 12/21/2021.

Table 1—Burden Estimates
| Responses | Estimated burden per response | Average hourly labor cost | Labor cost per response | Total burden hours | Total labor costs
Police Chiefs nomination of law enforcement officer for study participation | 397 | 0.17 hour (10 minutes) | $75.11 | $12.76 | 67.49 | $5,069.17
Survey of Law Enforcement Officers | 1,588 | 1 hour | 54.12 | 54.12 | 1,588.00 | 85,942.56
Total | 1,985 |  |  |  | 1,655.49 | 91,011.73

Estimated Total Annual Burden Cost: This collection is not expected to result in any increase in costs to respondents other than the opportunity cost associated with the burden hours. Both the police chiefs who will nominate respondents and the law enforcement officers completing the survey on MMUCC possess the information needed to complete each survey.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. chapter 35, as amended; 49 CFR 1.49; and DOT Order 1351.29A.

Chou-Lin Chen,
Associate Administrator for the National Center for Statistics and Analysis.

[FR Doc. 2022-18492 Filed 8-26-22; 8:45 am]

BILLING CODE P